DEPARTMENT OF THE INTERIOR

Bureau of Land Management

[NM-070-1430-01; NMNM108615]

Notice of Realty Action; Recreation and Public Purpose (R&PP) Act Classification, Rio Arriba County, NM

AGENCY: Bureau of Land Management, Interior.

ACTION: Notice of realty action.

SUMMARY: The following described public land is determined suitable for classification for leasing or conveyance to the Jemez Mountain School District, Gallina, New Mexico under the provisions of the Recreation and Public Purposes (R&PP) Act, as amended (43 U.S.C. 869 et seq.).

DATES: Interested parties may submit comments regarding the proposed leasing/conveyance or classification of the lands to the Bureau of Land Management at the following address until January 8, 2004. The Bureau of Land Management, Farmington Field Manager, 1235 La Plata Highway, Farmington, NM 87401, who may sustain, vacate, or modify this realty action, will review any adverse comments. In the absence of any adverse comments, this realty action becomes the final determination of the Department of the Interior and effective on January 23, 2004.

FOR FURTHER INFORMATION CONTACT: Mary Jo Albin, Realty Specialist, at the Bureau of Land Management, Farmington Field Office, at (505) 599-6332. Information related to this action, including the environmental assessment, is available for review at the Bureau of Land Management, Farmington Field Office, 1235 La Plata Highway, and Farmington, NM 87401.

SUPPLEMENTARY INFORMATION: The Jemez Mountain School District proposes to use the land for a school with related buildings and educational facilities.

New Mexico Principal Meridian

T. 23 N., R. 6 W.,

Sec. 17: SW¼SE¼.

Containing 40 acres, more or less.

Publication of this notice segregates the public land described above from all other forms of appropriation under the public land laws, including the general mining laws, except for leasing and conveyance under the Recreation and Public Purposes Act and leasing under the mineral leasing laws for a period until November 25, 2005. The segregative affect will terminate upon issuance of the lease and patent to the Jemez Mountain School District or November 25, 2005, whichever occurs first.

The lease, when issued, will be subject to the following terms:

1. Provisions of the Recreation and Public Purposes Act and to all applicable regulations of the Secretary of the Interior.

2. Provisions of the Resource Conservation and Recovery Act of 1976 (RCRA) as amended, 42 U.S.C. 6901-6987 and the Comprehensive Environmental Response, Compensation and Liability Act of 1980 (CERCLA) as amended, 42 U.S.C. 9601 and all applicable regulations.

3. Provisions of Title VI of the Civil Rights Act of 1964.

4. Provisions that the lease be operated in compliance with the approved Development Plan.

The patent, when issued, will be subject to the following terms:

1. Reservation to the United States of a right-of-way for ditches and canals in accordance with 43 U.S.C. 945.

2. Reservation to the United States of all minerals.

3. All valid existing rights, e.g., rights-of-way and leases of record.

4. Provisions that if the patentee or its successor attempts to transfer title to or control over the land to another or the land is devoted to a use other than that for which the land was conveyed, without the consent of the Secretary of the Interior or his delegate, or prohibits or restricts, directly or indirectly, or permits it agents, employees, contractors, or subcontractors, including without limitation, lessees, sublessees and permittees, to prohibit or restrict, directly or indirectly, the use of any part of the patented lands or any of the facilities whereon by any person because of such person's race, creed, color, or national origin, title shall revert to the United States.

Leasing and later patenting is consistent with current Bureau of Land Management policies and land use planning. The proposal serves the public interest since it would provide a school with educational facilities that would meet the needs of the surrounding Navajo Indian population.

Dated: October 8, 2003.
Joel E. Farrell,
Assistant Field Manager.

[FR Doc. 03-29205 Filed 11-21-03; 8:45 am]

BILLING CODE 4310-VB-P